DEPARTMENT OF ENERGY

Federal Energy Regulatory Commission

Notice of Application Ready for Environmental Analysis and Soliciting Comments, Recommendations, Terms, and Conditions, and Prescriptions

July 5, 2002.

Take notice that the following hydroelectric application has been filed with the Commission and is available for public inspection:

a. Type of Application: New Major License.

b. Project Nos.: 2576-022 and 2597-019.

c. Date filed: August 31, 1999.

d. Applicant: Northeast Generation Company.

e. Names of Projects: Falls Village Project and Housatonic Project.

f. Location: The Falls Village, Bulls Bridge, Shepaug, Rocky Falls and Stevenson developments are located on the Housatonic River, 76.2 miles, 52.9 miles, 44.1 miles, 30.0 miles and 19.3 miles, respectively, from its mouth. The project is in the western portion of Connecticut in the counties of Fairfield, New Haven and Litchfield. Approximately 74 acres of Federal land are within project boundaries.

g. Filed Pursuant to: Federal Power Act, 16 U.S.C. 791(a)-825(r).

h. Applicant Contact: Mr. Robert A. Gates, Project Manager, Northeast Generating Services, 143 West Street, New Milford, Connecticut 06776 (860) 354-8840 or e-mail at gatesr@nu.com.

i. FERC Contact: Jack S. Duckworth, (202) 219-2818 or via e-mail at jack.duckworth@ferc.gov.

j. Deadline for filing comments, recommendations, terms and conditions and prescriptions: 60 days from the date of issuance of this notice.

All documents (original and eight copies) should be filed with: Magalie R. Salas, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is ready for environmental analysis at this time.

l. Description of the project:

1. The Falls Village Development consists of the following existing facilities: (1) A 300-foot-long, 14-foot-high concrete gravity dam with two spillways having a combined overflow length of approximately 280 feet, and a crest at elevation 631.5 feet National Geodetic Vertical Datum (NGVD); (2) an impoundment 3.8 miles long containing 1,135 are-feet when at elevation 633.2 feet NGVD; (3) a dam-integral powerhouse with a total installed capacity of 9.0 megawatts (MW) producing approximately 36,733 megawatt hours (Mwh) annually; and (4) a switch yard connected to the project via a 69 kilovolt (kV) interconnected transmission line.

2. The Bulls Bridge Development consists of the following existing facilities: (1) A 203-foot-long, 24-foot-high stone and concrete gravity dam with a dam crest of 354 feet NGVD; (2) a two-mile-long power canal; (3) a 156-foot-long, 17-foot-high rock fill gravity weir dam; (4) a 2.25 mile-long reservoir with an 1,800 acre-feet storage capacity, a surface area, which, at a normal elevation of 354 feet NGVD, occupies approximately 120 acres; (5) a powerhouse with a capacity of 7.2 MW, producing approximately 44,079 MWh annually; and (6) a 69kV line connecting the development to the Rocky River development.

3. The Rocky River Pumped Storage Development consists of the following existing facilities: (1) A 952-foot-long earth-filled core wall dam, a 2,500-foot-long earthen canal dike that forms the north bank of the power canal to the intake structure, six dikes, a dam crest elevation averaging 440.1 feet NGVD, and an intake canal 3,190 feet in length; (2) a 7-mile-long, Candlewood Lake reservoir with a 5,610 acre impoundment at 428.1 feet NGVD; (3) a powerhouse with a rated 31 MW capacity averaging 14,238 MWh per year; and (4) a development connection to the applicant's transmission system via the Rocky River-Carmel Hill 1813 line, the Rocky River-Bull Bridge 1555 line and the Rocky River-West Brookfield 1618 line.

4. The Shepaug Development consists of the following existing facilities: (1) A 1,412-foot, bedrock-anchored, concrete gravity dam having a crest elevation of 205.3 feet NGVD; (2) an impoundment, at maximum operational elevation level of 198.3 feet NGVD, occupying 1870 acres; (3) a powerhouse with a rated capacity of 37.2 MW with a 1997 production of 118,880 MWh; and (4) a development connection to the applicant's transmission system via the Shepaug-Bates 1622 line and Shepaug-Stony Hill-West Brookfield 1887 line.

5. The Stevenson Development consists of the following existing facilities: (1) A 1,250-foot, bedrock-anchored, concrete gravity dam with a rest elevation of 98.3 feet NGVD, 696 feet of spillway and an integral powerhouse; (2) an impoundment occupying a surface area of 1,063 acres at 101.3 feet NGVD, which contains a storage volume of 2,650 acre-feet; (3) a powerhouse with a rated capacity of 30.5 MW with a 1997 production of 92,448 MWh; and (4) a development connection to the applicant's transmission system via several 115 kV transmission lines.

m. Locations of the application: A copy of the application is available for public inspection and reproduction at the commission's Public Reference Room, located at 888 First Street, NE, Room 2A, Washington, DC 20426, or by calling (202) 208-1371. This filing may also be viewed on the Web at www.ferc.gov using the “RIMS” link-select “Docket #” and follow the instructions. Call (202) 208-2222 for assistance. A copy is also available for inspection and reproduction at the address in item h above.

n. The Commission directs, pursuant to Section 4.34(b) of the Regulations (see order No. 533 issued May 8, 1991, 56 FR 23108, May 20, 1991) that all comments, recommendations, terms and conditions and prescriptions concerning the application be filed with the Commission within 60 days from the issuance date of this notice. All reply comments must be filed with the Commission within 105 days from the date of this notice.

o. Anyone may obtain an extension of time for these deadlines from the Commission only upon a showing of good cause or extraordinary circumstances in accordance with 18 CFR 385.2008. p. Procedural Schedule: The application processing will proceed according to the following tentative schedule:

Receipt of terms and conditions, recommendations & prescriptions: September 2002

Notification of Draft EIS: April 2003

Public Meeting on Draft EIS: May 2003

Final EIS: October 2003

All filings must (1) bear in all capital letters, the title “COMMENTS,” “REPLY COMMENTS,” “RECOMMENDATIONS,” “TERMS AND CONDITIONS,” OR “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

Magalie R. Salas,
Secretary.

[FR Doc. 02-17440 Filed 7-10-02; 8:45 am]

BILLING CODE 6717-01-P